DEPARTMENT OF THE TREASURY

Internal Revenue Service

Enrollment Program Advisory Committee

AGENCY: Internal Revenue Service, (IRS), Treasury.

ACTION: Notice.

SUMMARY: The Director of the Office of Professional Responsibility invites individuals and organizations to nominate candidates for membership on the Enrollment Program Advisory Committee. As of January 8, 2003, the newly created Office of Professional Responsibility replaced the former Office of the Director of Practice. The Director of the Office of Professional Responsibility exercises the authority of the former Director of Practice.

DATES: Submit nominations on or before September 15, 2003.

ADDRESSES: Mail or fax nominations to: Internal Revenue Service; Office of the Director of Professional Responsibility; SE:OPR, Attn: Michael Hahn, 1111 Constitution Ave., NW., Washington, DC 20224; fax number 202-694-1919.

FOR FURTHER INFORMATION CONTACT: Michael Hahn, Enrollment Program Advisory Committee, at 202-694-1823.

SUPPLEMENTARY INFORMATION: The Enrollment Program Advisory Committee (“EPAC”), which was formerly known as the “Special Enrollment Examination Advisory Committee,” was established in 1999 under the terms of the Federal Advisory Committee Act (“FACA”), 5 U.S.C. App. The EPAC's charter expires January 16, 2005. It is expected that the EPAC will be renewed for another two-year period. Therefore, the Director of the Office of Professional Responsibility invites individuals and organizations to nominate candidates for membership.

Section 330 of 31 U.S.C. authorizes the Secretary of the Treasury to require that representatives before the Department demonstrate their “competency to advise and assist persons in presenting their cases.” Pursuant to that statute, the Secretary has promulgated the regulations governing practice before the IRS, which are found at 31 CFR part 10, and are separately published in pamphlet form as Treasury Department Circular No. 230 (to order call 1-800-829-3676).

The regulations provide that enrolled agents are among the classes of individuals eligible to practice before the IRS. The Director of the Office of Professional Responsibility is also authorized to pass upon applications for enrollment and to grant enrollment to applicants who demonstrate special competence in tax matters by written examination administered by the IRS. This written examination is the Special Enrollment Examination (“SEE”). More information concerning the SEE may be found on the Office of Professional Responsibility Web page: (1) Go to IRS Digital Daily, http://www.irs.gov; (2) click Tax Professional; and (3) click Enrolled Agents.

The objective of the EPAC is to advise, with respect to annual examinations testing the special competence in Federal tax matters of individuals who intend to apply for status as “enrolled agents,” eligible to practice before the IRS. In meeting this objective, non-Federal members of the EPAC shall represent the various segments of the tax practitioner community. The EPAC's advisory functions will include, but will not necessarily be limited to: (1) Identifying Federal tax services sought by taxpayers, identifying the knowledge that would permit enrolled agents to provide such services, and developing examination topics and questions that will test for such knowledge; (2) recommending completed examinations for use in the SEE Program; and (3) reviewing the work product of any organization authorized by contract or otherwise to write, compile, administer and grade the SEE, report the scores to SEE candidates, and provide advice thereon to the Director.

FACA mandates that the membership of the Committee be fairly balanced in terms of the points of view presented and the functions to be performed. To that end, the Office of Professional Responsibility will consider nominations of all individuals who: (1) Are qualified to represent the views of a segment of the tax practitioner community; (2) possess professional or academic accomplishments sufficient to allow contributions to the EPAC's advisory functions; (3) are of good character and good reputation; and (4) are in compliance with the Federal tax laws. Current or former status as an enrolled agent is not a requirement for EPAC membership.

Individuals may nominate themselves; an individual may nominate other individuals; or professional associations or other organizations may nominate individuals. A nomination may be in any format, but it must include: (1) A statement of which segment of the tax practitioner community the nominee is qualified to represent; (2) a description of the nominee's professional accomplishments, academic accomplishments, or both; and (3) a statement that the nominee is willing to accept an appointment to the EPAC. Nominations may include copies of articles from professional journals or other relevant publications, but such items cannot be returned.

Appointment to the Committee will be for a two-year term, providing that a member continues to fulfill his or her Committee responsibilities. The Committee is expected to meet up to four times a year. Members should be prepared to devote from 125 to 175 hours per year, including meetings, to the Committee's work. Members will be reimbursed, in accordance with Government regulations, for expenses (transportation, meals, and lodging) incurred in connection with Committee meetings.

If the SEE is to provide objective and fair indicia of special competence in Federal taxation, the SEE's specific topics and questions must not become publicly available prior to administration of the examination. Consequently, sessions of EPAC meetings dealing with specific SEE topics and questions will be closed to public participation. With respect to such closed sessions, EPAC members must be prepared to maintain the confidentiality of their deliberations and advice.

Dated: August 1, 2003.
Brien T. Downing,
Director, Office of Professional Responsibility.

[FR Doc. 03-20291 Filed 8-7-03; 8:45 am]

BILLING CODE 4830-01-P